DEPARTMENT OF COMMERCE

Foreign-Trade Zones Board

[Order No. 2151]

Reorganization of Foreign-Trade Zone 29 (Expansion of Service Area) Under Alternative Site Framework; Louisville, Kentucky

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR 400.2(c)) as an option for the establishment or reorganization of zones;

Whereas, the Louisville & Jefferson County Riverport Authority, grantee of Foreign-Trade Zone 29, submitted an application to the Board (FTZ Docket B-3-2023, docketed January 9, 2023) for authority to expand the service area of the zone to include Christian, Todd, Logan, Simpson, Warren, Allen, and Barren Counties, Kentucky and to include two additional subzones (for Southern Kentucky Warehousing & Fulfillment, LLC and Envision AESC Bowling Green LLC), as described in the application, adjacent to the Nashville Customs and Border Protection port of entry;

Whereas, notice inviting public comment was given in the Federal Register (88 FR 2322-2323, January 13, 2023) and the application has been processed pursuant to the FTZ Act and the Board's regulations; and,

Whereas, the Board adopts the findings and recommendations of the examiner's report, and finds that the requirements of the FTZ Act and the Board's regulations would be satisfied if approval is limited to the proposed subzone for Envision AESC Bowling Green LLC;

Now, therefore, the Board hereby approves subzone status at the facility of Envision AESC Bowling Green LLC, located in Bowling Green, Kentucky (Subzone 29T), as described in the application and Federal Register notice, subject to the FTZ Act and the Board's regulations, including section 400.13.

Dated: September 22, 2023.
Lisa W. Wang,
Assistant Secretary for Enforcement and Compliance, Alternate Chairman, Foreign-Trade Zones Board.

[FR Doc. 2023-21188 Filed 9-27-23; 8:45 am]

BILLING CODE 3510-DS-P